INTERNATIONAL TRADE COMMISSION

[Investigation No. 337-TA-586]

In the Matter of Certain Stringed Musical Instruments and Components Thereof; Notice of Commission Determination of No Violation of Section 337; Termination of Investigation

AGENCY: U.S. International Trade Commission.

ACTION: Notice.

SUMMARY: Notice is hereby given that the U.S. International Trade Commission has determined to terminate the above-captioned investigation with a finding of no violation of section 337 of the Tariff Act of 1930, as amended, 19 U.S.C. 1337 (“section 337”).

FOR FURTHER INFORMATION CONTACT: James A. Worth, Office of the General Counsel, U.S. International Trade Commission, 500 E Street, SW., Washington, DC 20436, telephone (202) 205-3065. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on (202) 205-1810.

SUPPLEMENTARY INFORMATION: On November 3, 2006, the Commission instituted an investigation titled Certain Stringed Musical Instruments and Components Thereof, Inv. No. 337-TA-586, based upon a complaint filed October 3, 2006, and supplemented October 24, 2006, by Geoffrey McCabe (Los Angeles, California) (“McCabe”). 71 FR 64738 (Nov. 3, 2006). The complaint alleged violations of section 337 of the Tariff Act of 1930, as amended, 19 U.S.C. 1337, in the importation into the United States, the sale for importation, and the sale within the United States after importation of certain stringed musical instruments and components thereof by reason of infringement of one or more of claims 1-6, 8, 9, and 11 of U.S. Patent No. 6,175,066 (“the '066 patent”); claims 1-6 of U.S. Patent No. 5,965,831; claims 1 and 14-22 of U.S. Patent No. 6,891,094 (“the '094 patent”); and claims 1-3, 6-10, 14, 15, 23, 27, 28, and 32 of U.S. Patent No. 5,986,191. The complaint named as respondents Floyd Rose Guitars (Redmond, Washington), Ibanez, Inc. (Hoshino) U.S. (Bensalem, Pennsylvania) (“Hoshino”), Vigier, Inc. (Grigny, France) (“Vigier”), and Schaller Electronic (Postbauer-Heng, Germany). Hoshino and Vigier have been terminated from the investigation on the basis of settlement agreements. Only claims 8, 9, and 11 of the '066 patent and claims 1 and 14-22 of the '094 patent remained in the case as of the date of the final ID.

On December 3, 2007, the administrative law judge (“ALJ”) issued a final initial determination (“ID”) finding no violation of section 337, on the ground that the economic prong of the domestic industry requirement was not met as required by section 337(a)(2), (3)(C). McCabe and the Commission investigative attorney filed petitions for review. On December 21, 2007, the Commission issued a notice extending the deadline for determining whether to review the subject ID by fifteen (15) days until February 1, 2008. On February 1, 2008, the Commission issued a notice extending the deadline for determining whether to review the ID to February 8, 2008, and extending the target date for completion of the investigation to April 10, 2008. On February 7, 2008, the Commission issued a notice of a determination to review the subject ID in its entirety, requesting briefing on the issues on review, including certain specific questions. On April 10, 2008, the Commission issued a notice extending the target date to April 24, 2008.

Having considered the submissions on review and the relevant portions of the record, the Commission has determined to terminate the investigation with a finding of no violation for failure to meet the domestic industry requirement.

This action is taken under the authority of section 337 of the Tariff Act of 1930, as amended (19 U.S.C. 1337), and in sections 210.41 and 210.45(c) of the Commission's Rules of Practice and Procedure (19 CFR 210.41, 210.45(c)).

By order of the Commission.
Issued: April 24, 2008.
Marilyn R. Abbott,
Secretary to the Commission.

[FR Doc. E8-9414 Filed 4-29-08; 8:45 am]

BILLING CODE 7020-02-P